DEPARTMENT OF COMMERCE

International Trade Administration

[C-533-931]

Certain High Chrome Cast Iron Grinding Media From India: Final Affirmative Countervailing Duty Determination

AGENCY: Enforcement and Compliance, International Trade Administration, Department of Commerce.

SUMMARY: The U.S. Department of Commerce (Commerce) determines that countervailable subsidies are being provided to producers and exporters of certain high chrome cast iron grinding media (grinding media) from India. The period of investigation (POI) is April 1, 2023, through March 31, 2024.

DATES: Applicable April 28, 2025.

FOR FURTHER INFORMATION CONTACT: David Crespo, AD/CVD Operations, Office II, Enforcement and Compliance, International Trade Administration, U.S. Department of Commerce, 1401 Constitution Avenue NW, Washington, DC 20230; telephone: (202) 482-3693.

SUPPLEMENTARY INFORMATION:

Background

On October 4, 2024, Commerce published in the Federal Register its Preliminary Determination in the in the countervailing duty (CVD) investigation of grinding media from India and invited interested parties to comment.¹ In the Preliminary Determination, and in accordance with section 705(a)(1) of the Tariff Act of 1930, as amended (the Act), and 19 CFR 351.210(b)(4), Commerce aligned the final countervailing duty (CVD) determination with the final determination in the less-than-fair-value investigation of grinding media from India.²

¹ See Certain High Chrome Cast Iron Grinding Media from India: Preliminary Affirmative Countervailing Duty Determination, and Alignment of Final Determination With Final Antidumping Duty Determination, 89 FR 80865 (October 4, 2024) (Preliminary Determination), and accompanying Preliminary Decision Memorandum (PDM).

² See Preliminary Determination, 89 FR at 22386.

For a complete description of the events that followed the Preliminary Determination, see the Issues and Decision Memorandum.³ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

³ See Memorandum, “Issues and Decision Memorandum for the Final Affirmative Determination of the Countervailing Duty Investigation of Certain High Chrome Cast Iron Grinding Media from India,” dated concurrently with, and hereby adopted by, this notice (Issues and Decision Memorandum).

Scope of the Investigation

The products covered by this investigation are grinding media from India. For a complete description of the scope of the investigation, see Appendix I.

Scope Comments

We received no comments from interested parties on the scope of the investigation as it appeared in the Preliminary Determination.⁴ Therefore, we made no changes to the scope of the investigation from that published in the Preliminary Determination for the final determination.

⁴ See Preliminary Determination.

Verification

As provided in section 782(i) of the Act, in February 2025, Commerce conducted verification of the subsidy information reported by AIA Engineering Ltd. (AIA) and Vega Industries (Middle East) F.Z.C. (collectively, AIA/Vega), and the Government of India (GOI).⁵

⁵ See Memorandum, “Verification of the Questionnaire Responses of the Government of India,” dated February 28, 2025 (GOI's Verification Report); see also Memorandum, “Verification of the Questionnaire Responses of AIA Engineering Ltd.,” dated February 28, 2025 (AIA's Verification Report).

Analysis of Subsidy Programs and Comments Received

The subsidy programs under investigation, and the issues raised in the case and rebuttal briefs by parties in this investigation, are discussed in the Issues and Decision Memorandum. For a list of the issues raised by parties, and to which we responded in the Issues and Decision Memorandum, see Appendix II.

Methodology

Commerce conducted this investigation in accordance with section 701 of the Act. For each of the subsidy programs found to be countervailable, Commerce determines that there is a subsidy, i.e., a financial contribution by an “authority” that gives rise to a benefit to the recipient, and that the subsidy is specific.⁶ For a full description of the methodology underlying our final determination, see the Issues and Decision Memorandum. In making this final determination, Commerce relied, in part, on facts otherwise available, including with an adverse inference, pursuant to sections 776(a) and (b) of the Act. For a full discussion of our application of adverse facts available (AFA), see the Issues and Decision Memorandum at Comments 2 and 5.

⁶ See sections 771(5)(B) and (D) of the Act regarding financial contribution; section 771(5)(E) of the Act regarding benefit; and section 771(5A) of the Act regarding specificity.

Changes Since the Preliminary Determination

Based on our review and analysis of the information received during verification and comments received from parties, for this final determination, we made certain changes to the countervailable subsidy rate calculations for AIA/Vega, and for all other producers/exporters. For a discussion of these changes, see the Issues and Decision Memorandum.

All-Others Rate

Section 705(c)(5)(A) of the Act provides that in a final determination, Commerce shall determine an estimated all-others rate for companies not individually examined equal to the weighted average of the estimated countervailable subsidy rates established for exporters and producers individually examined, excluding any zero or de minimis countervailable subsidy rates and any rates based entirely under section 776 of the Act (facts available). If the individual estimated countervailable subsidy rates established for all exporters and producers individually examined are zero, de minimis, or determined entirely under section 776 of the Act, section 705(c)(5)(A)(ii) of the Act provides that Commerce may use any reasonable method to establish an estimated all-others countervailable subsidy rate for exporters and producers not individually investigated, including averaging the weighted average countervailable subsidy rates determined for the exporters and producers individually investigated.

In this investigation, we continue to calculate an individual total net countervailable subsidy rate for AIA/Vega and its affiliate Welcast Steels Ltd. (Welcast), the sole producer/exporter individually examined in this investigation, that is not zero, de minimis, or based entirely on facts otherwise available and there are no other countervailable subsidy rates on the record. Given these facts, Commerce has determined that a reasonable method for establishing the estimated all-others countervailable subsidy rate is to assign AIA/Vega's estimated countervailable subsidy rate to all other producers and exporters.

Final Determination

Commerce determines that the following estimated net countervailable subsidy rates exist for the period April 1, 2023, through March 31, 2024:

Company | Subsidy rate (percent ad valorem)
AIA Engineering Limited; Vega Industries (Middle East) F.Z.C; Welcast Steels Ltd.⁷ | 3.16
All Others | 3.16

Disclosure

⁷ As discussed in the Preliminary Determination, we found that AIA is cross owned with Vega Industries and Welcast. See Preliminary Determination PDM at 4-6. For this final determination, Commerce continues to find that these companies are cross owned.

Commerce intends to disclose its calculations performed to interested parties in this final determination within five days of its public announcement or, if there is no public announcement, within five days of the date of the publication of this notice in the Federal Register, in accordance with 19 CFR 351.224(b).

Continuation of Suspension of Liquidation

As a result of our Preliminary Determination, and pursuant to sections 703(d)(1)(B) and (d)(2) of the Act, Commerce instructed U.S. Customs and Border Protection (CBP) to collect cash deposits and suspend liquidation of entries of subject merchandise as described in the scope of the investigation section entered, or withdrawn from warehouse, for consumption on or after October 4, 2024, the date of publication of the Preliminary Determination in the Federal Register. In accordance with section 703(d) of the Act, we instructed CBP to discontinue the suspension of liquidation of all entries of subject merchandise entered or withdrawn from warehouse, on or after February 1, 2025, but to continue the suspension of liquidation of all entries of subject merchandise on or before January 31, 2025.

If the U.S. International Trade Commission (ITC) issues a final affirmative injury determination, we will issue a countervailing duty order, reinstate the suspension of liquidation under section 706(a) of the Act, and require a cash deposit of estimated countervailing duties for such entries of subject merchandise in the amounts indicated above. Pursuant to section 705(c)(2) of the Act, if the ITC determines that material injury, or threat of material injury, does not exist, this proceeding will be terminated, and all estimated duties deposited or securities posted as a result of the suspension of liquidation will be refunded or canceled.

ITC Notification

In accordance with section 705(d) of the Act, Commerce will notify the ITC of its final affirmative determination that countervailable subsidies are being provided to producers and exporters of grinding media from India. As Commerce's final determination is affirmative, in accordance with section 705(b) of the Act, the ITC will determine, within 45 days, whether the domestic industry in the United States is materially injured, or threated with material injury, by reason of import of grinding media from India. In addition, we are making available to the ITC all non-privileged and non-proprietary information in our files, provided the ITC confirms that it will not disclose such information, either publicly or under administrative protective order (APO), without the written consent of the Assistant Secretary for Enforcement and Compliance.

If the ITC determines that material injury or threat of material injury does not exist, this proceeding will be terminated and all cash deposits will be refunded. If the ITC determines that such injury does exist, Commerce will issue a countervailing duty order directing CBP to assess, upon further instruction by Commerce, countervailing duties on all imports of the subject merchandise that are entered, or withdrawn, for consumption on or after the effective date of the suspension of liquidation, as discussed above in the “Continuation of Suspension of Liquidation” section.

Administrative Protective Order

This notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: April 21, 2025.
Christopher Abbott,
Deputy Assistant Secretary for Policy and Negotiations, performing the non-exclusive functions and duties of the Assistant Secretary for Enforcement and Compliance.

Appendix I

Scope of the Investigation

The scope of this investigation covers chrome cast iron grinding media in spherical (ball) or ovoid shape, with an alloy composition of seven percent or more (≥7 percent of total mass) chromium (Cr) content and produced through the casting method, with a nominal diameter of up to 127 millimeters (mm) and tolerance of plus or minus 10 mm. The products covered by the scope are currently classified under Harmonized Tariff Schedule of the United States (HTSUS) subheading 7325.91.0000. This HTSUS subheading is provided for convenience and U.S. Customs purposes only. The written description of the scope is dispositive.

Appendix II

List of Topics Discussed in the Issues and Decision Memorandum

I. Summary

II. Background

III. Use of Facts Otherwise Available and Application of Adverse Inferences

IV. Subsidies Valuation

V. Changes Since the Preliminary Determination

VI. Analysis of Programs

VII. Discussion of the Issues

Comment 1: Whether Remission of Duties and Taxes on Export Products (RoDETP) is Countervailable

Comment 2: Whether the Discounted Energy Rate Scheme (DERS) is Specific

Comment 3: Whether Commerce Erred in its Calculation of the Status Holders Incentive Scrip (SHIS) Program

Comment 4: Whether Commerce Erred in Calculating the State Government of Gujarat (SGOG) Electricity Duty Exemption

Comment 5: Whether Commerce Should Apply Adverse Facts Available (AFA) to AIA's Export Promotion of Capital Goods (EPCG) Scheme

VIII. Recommendation

[FR Doc. 2025-07287 Filed 4-25-25; 8:45 am]

BILLING CODE 3510-DS-P